NATIONAL SCIENCE FOUNDATION

Proposal Review Panel for Chemistry; Notice of Meeting

In accordance with the Federal Advisory Committee Act (Pub. L. 92-463 as amended), the National Science Foundation announces the following meeting:

Name: Cyber Review of Phase II Centers for Chemical Innovation (CCI), 2011 Awardees by NSF Division of Chemistry (CHE), #1191.

Dates and Times:

March 31, 2011; 8 a.m.-5:30 p.m.

April 1, 2011; 8 a.m.-5 p.m.

April 2, 2011; 8 a.m.-5 p.m.

Place: Beckman Conference Center, 100 Academy Way, Irvine, CA 92617.

Type of Meeting: Part-open.

Contact Person: Dr. Robert Kuczkowski, Program Director, Chemistry Centers Program, Division of Chemistry, Room 1055, National Science Foundation, 4201 Wilson Boulevard, Arlington, VA 22230, Telephone (703) 292-4454.

Purpose of Meeting: To provide advice and recommendations concerning Phase II progress.

Agenda:

Thursday, March 31, 2011

8 a.m.-9:15 a.m. Closed—Panel Briefing and Discussion.

9:15 a.m.-11:15 a.m. Open—Presentation: Center for Molecular Interfacing.

11:30 a.m.-12:15 a.m. Open—Post presentations.

12:15 p.m.-1:30 p.m. Closed—Panel/Lunch and Discussion.

1:30 p.m.-2:45 p.m. Open—Panel wrap-up presentation and Q&A.

2:45 p.m.-5:30 p.m. Closed—Panel Discussion.

Friday, April 1, 2011

8 a.m.-8:30 a.m. Closed—Panel Discussion.

8:30 a.m.-10:30 a.m. Open—Presentation: Center for Green Materials Chemistry.

10:45 a.m.-11:30 a.m. Open—Post Presentation.

11:30 a.m.-12:45 p.m. Closed—Panel/Lunch and Discussion.

1 p.m.-2:15 p.m. Open—Panel wrap-up presentation and Q&A.

2:15 p.m.-5 p.m. Closed—Panel Discussion.

Saturday, April 2, 2011

8 a.m.-8:30 a.m. Closed—Panel Briefing and Discussion.

8:30 a.m.-10:30 a.m. Open—Presentation: Center for Chemistry of The Universe.

10:45 a.m.-11:30 a.m. Open—Poster Presentations.

11:30 a.m.-12:45 p.m. Closed—Panel/Lunch and Discussion.

1 p.m.-2:15 p.m. Open—Panel wrap-up presentation and Q&A.

2:15 p.m.-5 p.m. Closed—Panel Discussion.

Reason for Closing: The work being reviewed may include information of a proprietary or confidential nature, including technical information; financial data, such as salaries and personal information concerning individuals associated with the proposals. These matters are exempt under 5 U.S.C. 552 b(c), (4) and (6) of the Government in the Sunshine Act.

Dated: March 4, 2011.
Susanne Bolton,
Committee Management Officer.

[FR Doc. 2011-5376 Filed 3-8-11; 8:45 am]

BILLING CODE 7555-01-P